ENVIRONMENTAL PROTECTION AGENCY

[ER-FRL-6634-9]

Environmental Impact Statements; Notice of Availability

RESPONSIBLE AGENCY: Office of Federal Activities, General Information (202) 564-7167 or http://www.epa.gov/compliance/nepa/.

Weekly receipt of Environmental Impact Statements

Filed November 4, 2002, through November 8, 2002,

Pursuant to 40 CFR 1506.9.

EIS No. 020457, Draft EIS, AFS, UT, Fox and Cresent Reservoirs Maintenance Project, to operate and maintain the dam structures, special use permit, High Uintas Wilderness, Ashley National Forest, Uinta Basin, Duchesne County, UT, Due: December 30, 2002, Contact: Clark Tucker (435) 781-5203.

EIS No. 020458, Draft EIS, AFS, ID, Salmon-Challis National Forest Noxious Weed Management Program, to implement an integrated series of weed treatment and non-treatment practices, Custer, Lemhi, Butte and Blaine Counties, ID, Due: January 14, 2003, Contact: William Diage (208) 756-5100.

EIS No. 020459, Final EIS, MMS, AL, LA, MS, TX, Gulf of Mexico Outer Continental Shelf Oil and Gas Lease Sales: 2003-2007, starting in 2002 the proposed central planning area sales 185, 190, 194, 198, and 201 and western planning area sales 187, 192, 196, and 200, offshore marine environment, coastal counties and parishes of TX, LA, AL and MS, Due: December 16, 2002, Contact: Archie Melancon (703) 787-1547.

EIS No. 020460, Final EIS, AFS, MT, Cave Gulch post-fire salvage sale, harvesting dead or dying trees, implementation, Helena National Forest, Big Belts Mountain, Lewis and Clark Counties, MT, Due: December 16, 2002, Contact: Jerry Meyer (406) 449-5201.

EIS No. 020461, Draft EIS, EPA, CA, Lower Owens River Project, to implement a large-scale habitat restoration project, funding, NPDES permit and COE section 404 permit, Owens Valley, Inyo County, CA, Due: January 14, 2003, Contact: Gail Louis (414) 972-3467. This document is available on the Internet at: http://lorpeir.com

EIS No. 020462, Draft EIS, DOE, CA, Sacramento Area Voltage Support Project, to improve system reliability and provide voltage support, Sierra Nevada Region, Alamenda, Contra Costa, Placer, Sacramento, San Joaquin and Sutter Counties, CA, Due: December 30, 2002, Contact: Loreen McMahon (916) 353-4460. This document is available on the Internet at: http://www.wapa.gov.

EIS No. 020463, Draft EIS, SFW, CA, Western Riverside County Multiple Species Habitat Conservation Plan (MSHCP), implementation, issuing incidental take permits, Riverside and Orange County, CA, Due: January 15, 2003, Contact: Jim Bartel (760) 431-9440.

EIS No. 020464, Draft EIS, APH, importation of solid wood packing material, to exclude, eradicate and/or control invasive alien agricultural pest, implementation, United States, Due: December 30, 2002, Contact: Ray Nosbaum (301) 734-6280. This document is available on the Internet at: http://www.aphis.usda.gov/ppd/es/ppq/swpmdeis.pdf.

EIS No. 020465, Draft EIS, COE, LA, Bayou Sorrel Lock Replacement (formerly IWW Locks) feasibility study, to relieve navigation delays and/or provide adequate flood protection, Atchafalaya Basin Floodway, Iberville Parish, LA, Due: December 30, 2002, Contact: Richard Boe (504) 862-1505.

EIS No. 020467, Draft EIS, FHW, IL, Milan Beltway Extension (FAU 5822) Airport Road to Blackhawk Road/John Deere Expressway, to provide a connections between the developing areas, Black Hawk State historic site, Rock Island County, IL, Due: January 13, 2003, Contact: Roger E. Rocke (815) 284-2271.

EIS No. 020468, Final EIS, COE, TX, Texas City's Proposed Shoal Point Container Terminal Project, containerized cargo gateway development, U.S. Army COE section 404 and 10 permits issuance, material placement area (DMPA), City of Texas, Galveston County, TX, Due: December 16, 2002, Contact: Sharon Manzaella-Tirpak (409) 766-3136.

EIS No. 020469, Draft Supplement, FTA, FL, Miami-Miami Beach (Bay Link) Transportation Corridor Study, transportation improvements connecting government center and downtown Miami Beach Convention Center, Dade County, FL, Due: December 30, 2002, Contact: Elizabeth B. Martin (404) 562-3509.

EIS No. 020470, Final EIS, FTA, AZ, Central Phoenix/East Valley Light Rail Transit Corridor, construction, operation and maintenance, funding, Cities of Phoenix, Tempe and Mesa, Maricopa County, AZ, Due: December 16, 2002, Contact: Hymie Luden (415) 744-3115.

EIS No. 020471, Draft EIS, SFW, FL, proposed rulemaking for: the incidental take of small numbers of Florida manatees (Trichechus manatus latirostris) resulting from government programs related to watercraft access and watercraft operation in the State of Florida, Due: January 10, 2003, Contact: Pete Benjamin (904) 232-2580.

Amended Notices

EIS No. 020418, Draft EIS, USN, CA, Advanced Amphibious Assault Vehicle (AAAV) development, replacement and establishment, implementation, Del Mar Basin Area of Marine Base Corps (MCB) Camp Pendelton, San Diego County, CA, Due: December 03, 2002, Contact: Lisa Seneca (619) 532-4744. Revision of Federal Register notice published on 10/11/2002: CEQ comment period ending 11/25/2002 has been extended to 12/3/2002.

EIS No. 020452, Final Supplement, AFS, GA, AL, FL, SC, LA, NC, MS, TX, vegetation management in the Coastal Plain/ Piedmont, proposal to clarify direction for conducting project-level inventories for biological evaluations (BEs), US Forest Service Southern Region, Al, GA, FL, SC, NC, LA, MS and TX, Due: December 9, 2002, Contact: Robert Wilhelm (404) 347-7076. Revision of Federal Register notice published on 11-8-2002: correction to website address on the Internet at: http://www.southregion.fs.fed.us/planning/vmeis/index.htm.

EIS No. 020453, Final Supplement, AFS, AL, GA, KY, NC, SC, TN, VA, WV, vegetation management in the Appalachian Mountains, proposal to clarify direction for conducting project-level inventories for biological evaluations (BEs), AL, GA, KY, NC, SC, TN, VA and WV, Due: December 9, 2002, Contact: Robert Wilhelm (404) 347-7076. Revision of Federal Register notice published 11-08-02 correction to website address. This document is available on the Internet at: http://www.southregion.fs.fed.us/planning/vmeis/index.htm.

Dated: November 12, 2002.
Joseph C. Montgomery,
Director, NEPA Compliance Division, Office of Federal Activities.

[FR Doc. 02-29053 Filed 11-14-02; 8:45 am]

BILLING CODE 6560-50-P